FEDERAL COMMUNICATIONS COMMISSION

47 CFR Part 73

[DA 03-2981; MB Docket No. 03-51; RM-10555]

Radio Broadcasting Services; Dickson and Pegram, TN

AGENCY: Federal Communications Commission.

ACTION: Final rule.

SUMMARY: The Audio Division, at the request of Montgomery Broadcasting Company, licensee of Station WQZQ-FM, Channel 273C1, Dickson, Tennessee, deletes Dickson, Tennessee, Channel 273C1, from the FM Table of Allotments, allots Channel 273C1 at Pegram, Tennessee, as the community's first local FM service, and modifies the license of Station WQZQ-FM to specify operation on Channel 273C1 at Pegram. Channel 273C1 can be allotted to Pegram, Tennessee, in compliance with the Commission's minimum distance separation requirements with a site restriction of 32.9 km (20.5 miles) northwest of Pegram. The coordinates for Channel 273C1 at Pegram, Tennessee, are 36-17-50 North Latitude and 87-19-31 West Longitude.

DATES: Effective November 17, 2003.

FOR FURTHER INFORMATION CONTACT: Deborah Dupont, Media Bureau, (202) 418-2180.

SUPPLEMENTARY INFORMATION: This is a synopsis of the Commission's Report and Order, MB Docket No. 03-51, adopted October 1, and released October 3, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Tennessee, is amended by removing Dickson, Channel 273C1, and by adding Pegram, Channel 273C1.

Federal Communications Commission.
John A. Karousos,
Assistant Chief, Audio Division, Media Bureau.

[FR Doc. 03-26957 Filed 10-24-03; 8:45 am]

BILLING CODE 6712-01-P